DEPARTMENT OF COMMERCE

International Trade Administration

Initiation of Antidumping and Countervailing Duty Administrative Reviews

AGENCY: Enforcement and Compliance, International Trade Administration, Department of Commerce.

SUMMARY: The Department of Commerce (Commerce) has received requests to conduct administrative reviews of various antidumping duty (AD) and countervailing duty (CVD) orders and findings with February anniversary dates. In accordance with Commerce's regulations, we are initiating those administrative reviews.

DATES: Applicable April 8, 2020.

FOR FURTHER INFORMATION CONTACT: Brenda E. Brown, AD/CVD Operations, Customs Liaison Unit, Enforcement and Compliance, International Trade Administration, U.S. Department of Commerce, 1401 Constitution Avenue NW, Washington, DC 20230, telephone: (202) 482-4735.

SUPPLEMENTARY INFORMATION:

Background

Commerce has received timely requests, in accordance with 19 CFR 351.213(b), for administrative reviews of various AD and CVD orders and findings with February anniversary dates.

All deadlines for the submission of various types of information, certifications, or comments or actions by Commerce discussed below refer to the number of calendar days from the applicable starting time.

Notice of No Sales

If a producer or exporter named in this notice of initiation had no exports, sales, or entries during the period of review (POR), it must notify Commerce within 30 days of publication of this notice in the Federal Register. All submissions must be filed electronically at https://access.trade.gov in accordance with 19 CFR 351.303.¹ Such submissions are subject to verification in accordance with section 782(i) of the Tariff Act of 1930, as amended (the Act). Further, in accordance with 19 CFR 351.303(f)(1)(i), a copy must be served on every party on Commerce's service list.

¹ See Antidumping and Countervailing Duty Proceedings: Electronic Filing Procedures; Administrative Protective Order Procedures, 76 FR 39263 (July 6, 2011).

Respondent Selection

In the event Commerce limits the number of respondents for individual examination for administrative reviews initiated pursuant to requests made for the orders identified below, Commerce intends to select respondents based on U.S. Customs and Border Protection (CBP) data for U.S. imports during the POR. We intend to place the CBP data on the record within five days of publication of the initiation notice and to make our decision regarding respondent selection within 30 days of publication of the initiation Federal Register notice. Comments regarding the CBP data and respondent selection should be submitted within seven days after the placement of the CBP data on the record of this review. Parties wishing to submit rebuttal comments should submit those comments within five days after the deadline for the initial comments.

In the event Commerce decides it is necessary to limit individual examination of respondents and conduct respondent selection under section 777A(c)(2) of the Act, the following guidelines regarding collapsing of companies for purposes of respondent selection will apply. In general, Commerce has found that determinations concerning whether particular companies should be “collapsed” (e.g., treated as a single entity for purposes of calculating antidumping duty rates) require a substantial amount of detailed information and analysis, which often require follow-up questions and analysis. Accordingly, Commerce will not conduct collapsing analyses at the respondent selection phase of this review and will not collapse companies at the respondent selection phase unless there has been a determination to collapse certain companies in a previous segment of this AD proceeding (e.g., investigation, administrative review, new shipper review, or changed circumstances review). For any company subject to this review, if Commerce determined, or continued to treat, that company as collapsed with others, Commerce will assume that such companies continue to operate in the same manner and will collapse them for respondent selection purposes. Otherwise, Commerce will not collapse companies for purposes of respondent selection. Parties are requested to (a) identify which companies subject to review previously were collapsed, and (b) provide a citation to the proceeding in which they were collapsed. Further, if companies are requested to complete the Quantity and Value (Q&V) Questionnaire for purposes of respondent selection, in general, each company must report volume and value data separately for itself. Parties should not include data for any other party, even if they believe they should be treated as a single entity with that other party. If a company was collapsed with another company or companies in the most recently completed segment of this proceeding where Commerce considered collapsing that entity, complete Q&V data for that collapsed entity must be submitted.

Deadline for Withdrawal of Request for Administrative Review

Pursuant to 19 CFR 351.213(d)(1), a party that has requested a review may withdraw that request within 90 days of the date of publication of the notice of initiation of the requested review. The regulation provides that Commerce may extend this time if it is reasonable to do so. Determinations by Commerce to extend the 90-day deadline will be made on a case-by-case basis.

Deadline for Particular Market Situation Allegation

Section 504 of the Trade Preferences Extension Act of 2015 amended the Act by adding the concept of a particular market situation (PMS) for purposes of constructed value under section 773(e) of the Act.² Section 773(e) of the Act states that “if a particular market situation exists such that the cost of materials and fabrication or other processing of any kind does not accurately reflect the cost of production in the ordinary course of trade, the administering authority may use another calculation methodology under this subtitle or any other calculation methodology.” When an interested party submits a PMS allegation pursuant to section 773(e) of the Act, Commerce will respond to such a submission consistent with 19 CFR 351.301(c)(2)(v). If Commerce finds that a PMS exists under section 773(e) of the Act, then it will modify its dumping calculations appropriately.

² See Trade Preferences Extension Act of 2015, Public Law 114-27, 129 Stat. 362 (2015).

Neither section 773(e) of the Act nor 19 CFR 351.301(c)(2)(v) set a deadline for the submission of PMS allegations and supporting factual information. However, in order to administer section 773(e) of the Act, Commerce must receive PMS allegations and supporting factual information with enough time to consider the submission. Thus, should an interested party wish to submit a PMS allegation and supporting new factual information pursuant to section 773(e) of the Act, it must do so no later than 20 days after submission of initial responses to section D of the questionnaire.

Separate Rates

In proceedings involving non-market economy (NME) countries, Commerce begins with a rebuttable presumption that all companies within the country are subject to government control and, thus, should be assigned a single antidumping duty deposit rate. It is Commerce's policy to assign all exporters of merchandise subject to an administrative review in an NME country this single rate unless an exporter can demonstrate that it is sufficiently independent so as to be entitled to a separate rate.

To establish whether a firm is sufficiently independent from government control of its export activities to be entitled to a separate rate, Commerce analyzes each entity exporting the subject merchandise. In accordance with the separate rates criteria, Commerce assigns separate rates to companies in NME cases only if respondents can demonstrate the absence of both de jure and de facto government control over export activities.

All firms listed below that wish to qualify for separate rate status in the administrative reviews involving NME countries must complete, as appropriate, either a separate rate application or certification, as described below. For these administrative reviews, in order to demonstrate separate rate eligibility, Commerce requires entities for whom a review was requested, that were assigned a separate rate in the most recent segment of this proceeding in which they participated, to certify that they continue to meet the criteria for obtaining a separate rate. The Separate Rate Certification form will be available on Commerce's website at https://enforcement.trade.gov/nme/nme-sep-rate.html on the date of publication of this Federal Register notice. In responding to the certification, please follow the “Instructions for Filing the Certification” in the Separate Rate Certification. Separate Rate Certifications are due to Commerce no later than 30 calendar days after publication of this Federal Register notice. The deadline and requirement for submitting a Certification applies equally to NME-owned firms, wholly foreign-owned firms, and foreign sellers who purchase and export subject merchandise to the United States.

Entities that currently do not have a separate rate from a completed segment of the proceeding ³ should timely file a Separate Rate Application to demonstrate eligibility for a separate rate in this proceeding. In addition, companies that received a separate rate in a completed segment of the proceeding that have subsequently made changes, including, but not limited to, changes to corporate structure, acquisitions of new companies or facilities, or changes to their official company name,⁴ should timely file a Separate Rate Application to demonstrate eligibility for a separate rate in this proceeding. The Separate Rate Application will be available on Commerce's website at https://enforcement.trade.gov/nme/nme-sep-rate.html on the date of publication of this Federal Register notice. In responding to the Separate Rate Application, refer to the instructions contained in the application. Separate Rate Applications are due to Commerce no later than 30 calendar days after publication of this Federal Register notice. The deadline and requirement for submitting a Separate Rate Application applies equally to NME-owned firms, wholly foreign-owned firms, and foreign sellers that purchase and export subject merchandise to the United States.

³ Such entities include entities that have not participated in the proceeding, entities that were preliminarily granted a separate rate in any currently incomplete segment of the proceeding (e.g., an ongoing administrative review, new shipper review, etc.) and entities that lost their separate rate in the most recently completed segment of the proceeding in which they participated.

⁴ Only changes to the official company name, rather than trade names, need to be addressed via a Separate Rate Application. Information regarding new trade names may be submitted via a Separate Rate Certification.

For exporters and producers who submit a Separate Rate Application or Certification and subsequently are selected as mandatory respondents, these exporters and producers will no longer be eligible for separate rate status unless they respond to all parts of the questionnaire as mandatory respondents.

Initiation of Reviews

In accordance with 19 CFR 351.221(c)(1)(i), we are initiating administrative reviews of the following AD and CVD orders and findings. We intend to issue the final results of these reviews not later than February 28, 2021.

AD proceedings 5 | Period to be reviewed
INDIA: Certain Frozen Warmwater Shrimp, A-533-840 | 2/1/19-1/31/20
Abad Fisheries Private Limited
ADF Foods Ltd.
Akshay Food Impex Private Limited
Alashore Marine Exports (P) Limited
Albys Agro Private Limited
Al-Hassan Overseas Private Limited
Allana Frozen Foods Pvt. Ltd.
Allanasons Ltd.
Alpha Marine
Alps Ice & Cold Storage Private Limited
Amarsagar Seafoods Private Limited
Amulya Seafoods
Ananda Aqua Applications/Ananda Aqua Exports (P) Ltd./Ananda Foods 6
Ananda Enterprises (India) Private Limited
Anantha Seafoods Private Limited
Anjaneya Seafoods
Apex Frozen Foods Limited
Aquatica Frozen Foods Global Pvt. Ltd.
Arya Sea Foods Private Limited
Asvini Agro Exports
Asvini Fisheries Ltd/Asvini Fisheries Private Ltd.7
Avanti Frozen Foods Private Ltd.8
Ayshwarya Seafood Private Limited
B R Traders
Baby Marine Eastern Exports
Baby Marine Exports
Baby Marine International
Baby Marine Sarass
Baby Marine Ventures
Balasore Marine Exports Private Limited
BB Estates & Exports Private Limited
Bell Exim Private Limited (Bell Foods (Marine Division))
Bell Exim Pvt. Ltd.
Bhatsons Aquatic Products
Bhavani Seafoods
Bijaya Marine Products
Blue Fin Frozen Foods Pvt. Ltd.
Blue Water Foods & Exports P. Ltd.
Bluepark Seafoods Pvt. Ltd.
BMR Exports
BMR Industries Private Limited
B-One Business House Private Limited
Britto Seafood Exports Pvt Ltd.
C P Aquaculture (India) Pvt. Ltd.
Calcutta Seafoods Pvt. Ltd./Bay Seafood Pvt. Ltd./Elque & Co.9
Canaan Marine Products
Capithan Exporting Co.
Cargomar Private Limited
Castlerock Fisheries Ltd.
Chakri Fisheries Private Limited
Chemmeens (Redg)
Cherukattu Industries (Marine Div.)
Choice Trading Corporation Pvt. Ltd.
Coastal Aqua Private Limited 10
Coastal Corporation Ltd.
Cochin Frozen Food Exports Pvt. Ltd.
Continental Fisheries India Pvt. Ltd.
Coreline Exports
Corlim Marine Exports Pvt. Ltd.
CPF (India) Private Limited
Crystal Sea Foods Private Limited
Delsea Exports Pvt. Ltd.
Devi Fisheries Limited/Satya Seafoods Private Limited/Usha Seafoods/Devi Aquatech Private Limited 11
Devi Marine Food Exports Private Ltd./Kader Export Private Limited/Kader Investment and Trading Company Private Limited/Liberty Frozen Foods Pvt. Ltd./Liberty Oil Mills Ltd/Premier Marine Products Private Limited/Universal Cold Storage Private Limited 12
Devi Sea Foods Limited 13
Diamond Seafoods Exports/Edhayam Frozen Foods Pvt. Ltd./Kadalkanny Frozen Foods/Theva & Company 14
Empire Industries Limited
Entel Food Products Private Limited
Esmario Export Enterprises
Everblue Sea Foods Private Limited
Falcon Marine Exports Limited/KR Enterprises 15
Febin Marine Foods
Five Star Marine Exports Private Limited
Forstar Frozen Foods Pvt. Ltd.
Fouress Food Products Private Limited
Frontline Exports Pvt. Ltd.
G A Randerian Ltd.
Gadre Marine Exports
Galaxy Maritech Exports P. Ltd.
Geo Aquatic Products (P) Ltd.
Geo Seafoods
Godavari Mega Aqua Food Park Private Limited
Grandtrust Overseas (P) Ltd.
Green House Agro Products
Growel Processors Private Limited
GVR Exports Pvt. Ltd.
Hari Marine Private Limited
Haripriya Marine Export Pvt. Ltd.
HIC ABF Special Foods Pvt. Ltd.
Hiravati Exports Pvt. Ltd.
Hiravati International Pvt. Ltd. (located at Jawar Naka, Porbandar, Gujarat, 360 575, India)
Hiravati Marine Products Private Limited
HMG Industries Limited
HN Indigos Private Limited
Hyson Logistics and Marine Exports Private Limited
IFB Agro Industries Limited
Indian Aquatic Products
Indo Aquatics
Indo Fisheries
Indo French Shellfish Company Private Limited
International Freezefish Exports
ITC Ltd.
Jagadeesh Marine Exports
Jayalakshmi Sea Foods Pvt. Ltd.
Jinny Marine Traders
Jiya Packagings
KNC Agro Pvt. Ltd.
K V Marine Exports
Kalyan Aqua & Marine Exp. India Pvt. Ltd.
Karunya Marine Exports Private Limited
Kaushalya Aqua Marine Products Exports Pvt. Ltd.
Kay Kay Exports
Kings Marine Products
Koluthara Exports Ltd.
Landauer Ltd.
Libran Cold Storages (P) Limited
Magnum Esates Limited
Magnum Export
Magnum Sea Foods Limited/Magnum Estates Limited 16
Mangala Marine Exim India Pvt. Ltd.
Mangala Sea Products
Mangala Seafoods
Marine Harvest India
Megaa Moda Pvt. Ltd.
Milesh Marine Exports Private Limited
Milsha Agro Exports Private Limited
Milsha Sea Products
Minaxi Fisheries Private Limited
Mindhola Foods LLP
MMC Exports Limited
Monsun Foods Pvt Ltd.
Mourya Aquex Pvt. Ltd.
MTR Foods
Munnangi Seafoods (Pvt) Ltd.
N.K. Marine Exports LLP
Naga Hanuman Fish Packers
Naik Frozen Foods
Naik Oceanic Exports Pvt. Ltd./Rafiq Naik Exports Pvt. Ltd. 17
Naik Seafoods Ltd.
Neeli Aqua Private Limited
Nekkanti Mega Food Park Private Limited
Nekkanti Sea Foods Limited
Nezami Rekha Sea Foods Private Limited
Nila Sea Foods Exports
Nila Sea Foods Pvt. Ltd.
Nine Up Frozen Foods
Nutrient Marine Foods Limited
Oceanic Edibles International Limited
Paragon Sea Foods Pvt. Ltd.
Paramount Seafoods
Parayil Food Products Pvt., Ltd.
Pasupati Aquatics Private Limited
Penver Products (P) Limited
Pesca Marine Products Pvt., Ltd.
Pijikay International Exports P Ltd.
Pravesh Seafood Private Limited
Premier Exports International
Premier Marine Foods
Premier Seafoods Exim (P) Ltd.
RDR Exports
R F Exports
RF Exports Private Limited
RSA Marines
R V R Marine Products Limited
Raju Exports
Ram's Assorted Cold Storage Ltd.
Raunaq Ice & Cold Storage
Razban Seafoods Ltd.
Royal Imports and Exports
Royal Oceans
Royale Marine Impex Private Limited
Rupsha Fish Private Limited
S Chanchala Combines Private Limited
S A Exports
Sagar Grandhi Exports Pvt. Ltd.
Sagar Samrat Seafoods
Sahada Exports
Sai Marine Exports Pvt. Ltd.
Sai Sea Foods
Salet Seafoods Private Limited
Samaki Exports Private Limited
Sanchita Marine Products P Ltd
Sandhya Aqua Exports Pvt. Ltd.
Sandhya Marines Limited
Sasoondock Matsyodyog Sahakari Society Ltd.
Sea Foods Private Limited
Seagold Overseas Pvt. Ltd.
Sharat Industries Ltd.
Shimpo Exports Private Limited
Shimpo Seafoods Private Limited
Shiva Frozen Food Exp. Pvt. Ltd.
Shree Datt Aquaculture Farms Pvt. Ltd.
Shroff Processed Food & Cold Storage P Ltd.
Silver Seafood
Sita Marine Exports
Sonia Fisheries Private Limited
Southern Tropical Foods Pvt. Ltd.
Sprint Exports Pvt. Ltd.
Sri Sakkthi Cold Storage
Srikanth International 18
SSF Ltd.
Star Agro Marine Exports Private Limited
Star Organic Foods Private Limited
Stellar Marine Foods Private Limited
Sterling Foods
Sun Agro Exim
Sunrise Seafoods India Private Limited 19
Supran Exim Private Limited
Suryamitra Exim (P) Ltd.
Suvarna Rekha Exports Private Limited
Suvarna Rekha Marines P Ltd.
TBR Exports Pvt. Ltd.
Teekay Marine P. Ltd.
The Waterbase Limited
Triveni Fisheries P Ltd.
U & Company Marine Exports
Ulka Sea Foods Private Limited
Uniroyal Marine Exports Ltd.
Unitriveni Overseas
V V Marine Products
Vasai Frozen Food Co.
Vasista Marine
Veerabhadra Exports Private Limited
Veronica Marine Exports Private Limited
Victoria Marine & Agro Exports Ltd.
Vinner Marine
Vitality Aquaculture Pvt. Ltd.
VRC Marine Foods LLP
Wellcome Fisheries Limited
West Coast Fine Foods (India) Private Limited
West Coast Frozen Foods Private Limited
Z A Sea Foods Pvt. Ltd.
Zeal Aqua Limited
INDIA: Stainless Steel Bar, A-533-810 | 2/1/19-1/31/20
Ambica Steels Limited
Hindustan Inox Ltd.
Precision Metals
Sieves Manufacturers (India) Pvt. Ltd.
Venus Group
Venus Wire Industries Pvt. Ltd.
ITALY: Stainless Steel Butt-Weld Pipe Fittings, A-475-828 | 2/1/19-1/31/20
Filmag Italia, SpA
MALAYSIA: Stainless Steel Butt-Weld Pipe Fittings, A-557-809 | 2/1/19-1/31/20
Pantech Stainless & Alloy Industries Sdn. Bhd.
TSS Pipes & Fittings Industry Sdn. Bhd. (also known as TSS Pipe & Fittings
Industry Sdn. Bhd.)
MEXICO: Large Residential Washers, A-201-842 | 2/1/19-1/31/20
Electrolux Home Products de Mexico S.A. de C.V./Electrolux Home Products Corp. NV
PHILIPPINES: Stainless Steel Butt-Weld Pipe Fittings, A-565-801 | 2/1/19-1/31/20
E N Corporation
Enlin Steel Corporation
Vinox Corporation (a/k/a Vinoc Corporation)
REPUBLIC OF KOREA: Certain Cut-to-Length Carbon-Quality Steel Plate, A-580-836 | 2/1/19-1/31/20
BDP International
Dongkuk Steel Mill Co., Ltd.
Hyundai Steel Company
Sung Jin Steel Co., Ltd.
SOCIALIST REPUBLIC OF VIETNAM: Certain Frozen Warmwater Shrimp, A-552-802 | 2/1/19-1/31/20
Blue Bay Seafood Co., Ltd. 20
TAIWAN: Certain Crystalline Silicon Photovoltaic Products, A-583-853 | 2/1/19-1/31/20
AU Optronics Corporation
Baoding Jiasheng Photovoltaic Technology Co. Ltd.
Baoding Tianwei Yingli New Energy Resources Co., Ltd.
Beijing Tianneng Yingli New Energy Resources Co. Ltd.
Boviet Solar Technology Co., Ltd.
Canadian Solar Inc.
Canadian Solar International, Ltd.
Canadian Solar Manufacturing (Changshu), Inc.
Canadian Solar Manufacturing (Luoyang), Inc.
Canadian Solar Solution Inc.
EEPV CORP.
E-TON Solar Tech. Co., Ltd.
Gintech Energy Corporation
Hainan Yingli New Energy Resources Co., Ltd.
Hengshui Yingli New Energy Resources Co., Ltd.
Inventec Energy Corporation
Inventec Solar Energy Corporation
Kyocera Mexicana S.A. de C.V.
Lixian Yingli New Energy Resources Co., Ltd.
Mega Sunergy Co., Ltd.
Motech Industries, Inc.
Neo Solar Power Corporation
Shenzhen Yingli New Energy Resources Co., Ltd.
Sino-American Silicon Products Inc.
Solartech Energy Corporation'
Sunengine Corporation Ltd.
Sunrise Global Solar Energy
Tianjin Yingli New Energy Resources Co., Ltd.
TSEC Corporation
United Renewable Energy Co., Ltd.
Vina Solar Technology Co., Ltd.
Win Win Precision Technology Co., Ltd.
Yingli Energy (China) Co., Ltd.
Yingli Green Energy International Trading Company Limited
THAILAND: Certain Frozen Warmwater Shrimp, A-549-822 | 2/1/19-1/31/20
A Foods 1991 Co., Ltd./May Ao Foods Co., Ltd. 21
A. Wattanachai Frozen Products Co., Ltd.
A.P. Frozen Foods Co., Ltd.
A.S. Intermarine Foods Co., Ltd.
Ampai Frozen Food Co., Ltd.
Anglo-Siam Seafoods Co., Ltd.
Apitoon Enterprise Industry Co., Ltd.
Asian Alliance International Co., Ltd.
Asian SeaFoods Coldstorage (Suratthani) Co., Limited
Asian Seafoods Coldstorage PLC
Asian SeaFoods Coldstorage Public Co., Ltd.
B.S.A. Food Products Co., Ltd.
C.P. Intertrade Co. Ltd.
Chaivaree Marine Products Co., Ltd.
Chanthaburi Frozen Food Co., Ltd.
Chanthaburi Seafoods Co., Ltd.
Charoen Pokphand Foods Public Co., Ltd./CP Merchandising Co., Ltd. 22
Chonburi LC
Commonwealth Trading Co., Ltd.
CPF Food Products Co., Ltd.
Crystal Frozen Foods Co., Ltd.
Daedong (Thailand) Co. Ltd.
Daiei Taigen (Thailand) Co., Ltd.
Daiho (Thailand) Co., Ltd.
Earth Food Manufacturing Co., Ltd.
F.A.I.T. Corporation Limited
Far East Cold Storage Co., Ltd.
Findus (Thailand) Ltd.
Fortune Frozen Foods (Thailand) Co., Ltd.
Gallant Ocean (Thailand) Co., Ltd.
Golden Sea Frozen Foods Co., Ltd.
Golden Seafood International Co., Ltd.
Good Fortune Cold Storage Co., Ltd.
Good Luck Product Co., Ltd.
Grobest Frozen Foods Co., Ltd.
Haitai Seafood Co., Ltd.
Handy International (Thailand) Co., Ltd.
Heritrade Co., Ltd.
HIC (Thailand) Co., Ltd.
I.T. Foods Industries Co., Ltd.
Inter-Oceanic Resources Co., Ltd.
Inter-Pacific Marine Products Co., Ltd.
K & U Enterprise Co., Ltd.
Kiang Huat Sea Gull Trading Frozen Food Public Co., Ltd.
Kingfisher Holdings Ltd./KF Foods Limited 23
Kitchens of The Oceans (Thailand) Company Ltd.
Kongphop Frozen Foods Co., Ltd.
Lee Heng Seafood Co., Ltd.
Li-Thai Frozen Foods Co., Ltd.
Lucky Union Foods Co., Ltd.
Mahachai Food Processing Co., Ltd.
Marine Gold Products Ltd. 24
Merkur Co., Ltd.
N&N Foods Co., Ltd.
N.R. Instant Produce Co., Ltd.
Narong Seafood Co., Ltd.
Nongmon SMJ Products
Pacific Fish Processing Co., Ltd.
Penta Impex Co., Ltd.
Phatthana Frozen Food Co., Ltd.
Phatthana Seafood Co., Ltd.
Premier Frozen Products Co., Ltd.
S & D Marine Products Co., Ltd.
S. Chaivaree Cold Storage Co., Ltd.
S. Khonkaen Food Industry Public Co., Ltd.
S.K. Foods (Thailand) Public Co. Limited
S2K Marine Product Co., Ltd.
Sea Bonanza Food Co., Ltd.
Seafresh Industry Public Co., Ltd./Seafresh Fisheries 25
Sethachon Co.. Ltd.
Shianlin Bangkok Co., Ltd.
Shing-Fu Seaproducts Development Co.
Siam Food Supply Co., Ltd.
Siam Intersea Co., Ltd.
Siam Marine Products Co. Ltd.
Siam Ocean Frozen Foods Co., Ltd.
Siamchai International Food Co., Ltd.
Smile Heart Foods
SMP Food Product Co., Ltd.
Southport Seafood
Starfoods Industries Co., Ltd.
STC Foodpak Ltd.
Suntechthai Intertrading Co., Ltd.
Surapon Foods Public Co., Ltd./Surat Seafoods Public Co., Ltd. 26
Surapon Nichirei Foods Co., Ltd.
Tep Kinsho Foods Co., Ltd.
Tey Seng Cold Storage Co., Ltd./Chaiwarut Co., Ltd. 27
Thai Agri Foods Public Co., Ltd.
Thai I Mei Frozen Food Co., Ltd.
Thai Ocean Venture Co., Ltd.
Thai Royal Frozen Food Co., Ltd.
Thai Spring Fish Co., Ltd.
Thai Union Group Public Co., Ltd./Thai Union Frozen Products Co., ltd./Thai Union
Seafood Co., Ltd./Pakfood Public Company Limited/Asia Pacific (Thailand) Co.,
Ltd./Chaophraya Cold Storage Co., Ltd./Okeanos Co., Ltd./Okeanos Food Co.,
Ltd./Takzin Samut Co., Ltd. 28
Thai Union Manufacturing Company Limited
The Siam Union Frozen Foods Co., Ltd.
The Union Frozen Products Co., Ltd./Bright Sea Co., Ltd. 29
Top Product Food Co., Ltd.
Trang Seafood Products Public Co., Ltd.
Xian-Ning Seafood Co., Ltd.
Yeenin Frozen Foods Co., Ltd.
THE PEOPLE'S REPUBLIC OF CHINA: Certain Frozen Warmwater Shrimp, A-570-893 | 2/1/19-1/31/20
Allied Pacific (HK) Co., Ltd. 30
Allied Pacific Aquatic Products (Zhanjiang) Co., Ltd.
Allied Pacific Food (Dalian) Co., Ltd.
Anhui Fuhuang Sungem Foodstuff Group Co., Ltd
Asian Seafoods (Zhanjiang) Co., Ltd.
Beihai Anbang Seafood Co., Ltd.
Beihai Boston Frozen Food Co., Ltd.
Beihai Tianwei Aquatic Food Co. Ltd.
Changli Luquan Aquatic Products Co., Ltd.
Chengda Development Co. Ltd.
Dalian Beauty Seafood Company Ltd.
Dalian Changfeng Food Co., Ltd.
Dalian Guofu Aquatic Products and Food Co., Ltd.
Dalian Haiqing Food Co., Ltd.
Dalian Hengtai Foods Co., Ltd.
Dalian Home Sea International Trading Co., Ltd.
Dalian Philica International Trade Co., Ltd.
Dalian Philica Supply Chain Management Co., Ltd.
Dalian Rich Enterprise Group Co., Ltd.
Dalian Shanhai Seafood Co., Ltd.
Dalian Sunrise Foodstuffs Co., Ltd.
Dalian Taiyang Aquatic Products Co., Ltd.
Dandong Taihong Foodstuff Co., Ltd
Dongwei Aquatic Products (Zhangzhou) Co., Ltd.
Ferrero Food
Food Processing Co., Ltd.
Fujian Chaohui Aquatic Food Co., Ltd.
Fujian Chaohui Group
Fujian Chaohui International Trading Co., Ltd.
Fujian Dongshan County Shunfa Aquatic Product Co., Ltd.
Fujian Dongwei Food Co., Ltd.
Fujian Dongya Aquatic Products Co., Ltd.
Fujian Fuding Seagull Fishing Food Co., Ltd.
Fujian Hainason Trading Co., Ltd.
Fujian Haohui Import & Export Co., Ltd.
Fujian Hongao Trade Development Co.
Fujian R & J Group Ltd.
Fujian Rongjiang Import and Export Co., Ltd.
Fujian Zhaoan Haili Aquatic Co., Ltd.
Fuqing Chaohui Aquatic Food Co., Ltd.
Fuqing Dongwei Aquatic Products Industry Co., Ltd.
Fuqing Longhua Aquatic Food Co., Ltd.
Fuqing Minhua Trade Co., Ltd.
Fuqing Yihua Aquatic Food Co., Ltd.
Gallant Ocean Group
Guangdong Foodstuffs Import & Export (Group) Corporation
Guangdong Gourmet Aquatic Products Co., Ltd.
Guangdong Jinhang Foods Co., Ltd.
Guangdong Rainbow Aquatic Development
Guangdong Shunxin Marine Fishery Group Co., Ltd.
Guangdong Taizhou Import & Export Trade Co., Ltd.
Guangdong Universal Aquatic Food Co. Ltd.
Guangdong Wanshida Holding Corp.
Guangdong Wanya Foods Fty. Co., Ltd.
HaiLi Aquatic Product Co., Ltd.
Hainan Brich Aquatic Products Co., Ltd.
Hainan Golden Spring Foods Co., Ltd.
Hainan Qinfu Foods Co., Ltd.
Hainan Xintaisheng Industry Co., Ltd.
Huazhou Xinhai Aquatic Products Co. Ltd.
Kuehne Nagel Ltd. Xiamen Branch
Leizhou Bei Bu Wan Sea Products Co., Ltd.
Longhai Gelin Foods Co., Ltd.
Maoming Xinzhou Seafood Co., Ltd.
New Continent Foods Co., Ltd.
Ningbo Prolar Global Co., Ltd.
North Seafood Group Co.
Pacific Andes Food Ltd.
Penglai Huiyang Foodstuff Co., Ltd.
Penglai Yuming Foodstuff Co., Ltd.
Qingdao Free Trade Zone Sentaida
Qingdao Fusheng Foodstuffs Co., Ltd.
Qingdao Yihexing Foods Co., Ltd.
Qingdao Yize Food Co., Ltd.
Qingdao Zhongfu International
Qinhuangdao Gangwan Aquatic Products Co., Ltd.
Rizhao Meijia Aquatic Foodstuff Co., Ltd.
Rizhao Meijia Keyuan Foods Co. Ltd.
Rizhao Rongxing Co. Ltd.
Rizhao Smart Foods Company Limited
Rongcheng Yinhai Aquatic Product Co., Ltd.Rushan Chunjiangyuan Foodstuffs Co., Ltd.
Rushan Hengbo Aquatic Products Co., Ltd.
Savvy Seafood Inc.
Sea Trade International Inc.
Shanghai Zhoulian Foods Co., Ltd.
Shantou Freezing Aquatic Product Foodstuffs Co.
Shantou Haili Aquatic Product Co. Ltd.
Shantou Haimao Foodstuff Factory Co., Ltd.
Shantou Jiazhou Food Industrial Co., Ltd.
Shantou Jintai Aquatic Product Industrial Co., Ltd.
Shantou Longsheng Aquatic Product Foodstuff Co., Ltd.
Shantou Ocean Best Seafood Corporation
Shantou Red Garden Food Processing Co., Ltd.
Shantou Red Garden Foodstuff Co., Ltd. 31
Shantou Ruiyuan Industry Co., Ltd.
Shantou Wanya Foods Fty. Co., Ltd.
Shantou Yuexing Enterprise Company
Shengyuan Aquatic Food Co., Ltd.
Suizhong Tieshan Food Co., Ltd.
Thai Royal Frozen Food Zhanjiang Co., Ltd.
Tongwei Hainan Aquatic Products Co., Ltd.
Xiamen East Ocean Foods Co., Ltd.
Xiamen Granda Import and Export Co., Ltd.
Yangjiang Dawu Aquatic Products Co., Ltd.
Yangjiang Guolian Seafood Co., Ltd.
Yangjiang Haina Datong Trading Co.
Yantai Longda Foodstuffs Co., Ltd.
Yantai Tedfoods Co., Ltd.
Yantai Wei Cheng Food Co., Ltd.
Yantai Wei-Cheng Food Co., Ltd.
Yixing Magnolia Garment Co., Ltd.
Zhangzhou Donghao Seafoods Co., Ltd.
Zhangzhou Hongwei Foods Co., Ltd.
Zhangzhou Xinhui Foods Co., Ltd.
Zhangzhou Xinwanya Aquatic Product Co., Ltd.
Zhangzhou Yanfeng Aquatic Product & Foodstuff Co., Ltd.
Zhanjiang Evergreen Aquatic Product Science and Technology Co., Ltd.
Zhanjiang Fuchang Aquatic Products Co., Ltd.
Zhanjiang Fuchang Aquatic Products Freezing Plant
Zhanjiang Guolian Aquatic Products Co., Ltd. 32
Zhanjiang Longwei Aquatic Products Industry Co., Ltd.
Zhanjiang Newpro Foods Co., Ltd.
Zhanjiang Regal Integrated Marine Resources Co., Ltd. 33
Zhanjiang Universal Seafood Corp.
Zhaoan Yangli Aquatic Co., Ltd.
Zhejiang Evernew Seafood Co.
Zhejiang Xinwang Foodstuffs Co., Ltd.
Zhoushan Genho Food Co., Ltd.
Zhoushan Green Food Co., Ltd.
Zhoushan Haizhou Aquatic Products
Zhuanghe Yongchun Marine Products
THE PEOPLE'S REPUBLIC OF CHINA: Common Alloy Aluminum Sheet, A-570-073 | 6/22/18-1/31/20
Alcha International Holdings Limited
Alumax Composite Material (Jiangyin) Co., Ltd.
Chalco Ruimin Co., Ltd
Choil Aluminium Co., Ltd
Companhia Brasileira de Aluminio
Granges Aluminum (Shanghai) Co., Ltd
Henan Founder Beyond Industry Co., Ltd
Henan Jinyang Luyue Co., Ltd
Henan Mingtai Al Industrial Co., Ltd.
Henan Xintai Aluminum Industry Co., Ltd.
Henan Zhongyuan Aluminum Co., Ltd
Huafon Nikkei Aluminium Corporation
Jiangsu Alcha Aluminum Co., Ltd.
Jiangsu Lidao New Material Co., Ltd
Jiangsu Zhong He Aluminum Co., Ltd
Jiangyin Litai Ornamental Materials Co., Ltd
Jiangyin New Alumax Composite Material Co. Ltd
Luoyang Xinlong Aluminum Co., Ltd
Multipanel UK Ltd.
PMS Metal Profil Aluminyum San. Ve Tic. A.S. Demirtas Organize Sanayi Bolgesi
Shandong Fuhai Industrial Co., Ltd
Shandong Nanshan Aluminium Co., Ltd
Shanghai Dongshuo Metal Trade Co., Ltd
Teknik Aluminyum
Tianjin Zhongwang Aluminium Co., Ltd
United Metal Coating LLC
Xiamen Xiashun Aluminum Foil Co., Ltd
Yantai Jintai International Trade Co., Ltd
Yinbang Clad Material Co., Ltd
Zhengzhou Mingtai Industry Co., Ltd.
Zhengzhou Silverstone Limited
THE PEOPLE'S REPUBLIC OF CHINA: Truck and Bus Tires, A-570-040 | 2/15/19-1/31/20
Giti Tire Global Trading Pte. Ltd.
Guangrao Kaichi Trading Co., Ltd.
Jiangsu General Science Technology Co., Ltd.
Maxon Int'l Co., Limited
Megalith Industrial Group Co., Ltd.
Qingdao Keter International Co., Ltd.
Qingdao Powerich Tyre Co., Ltd.
Qingdao Shinego Tire Tech Co., Limited
Qingdao Shinego Tyre Tech Co., Ltd.
Qingdao Sunfulcess Tyre Co., Ltd.
Sailun (Shenyang) Tire Co., Ltd.
Sailun Group Co., Ltd.
Sailun Group (Hong Kong) Co., Limited
Sailun Jinyu Group (Hong Kong) Co., Limited
Shandong Hugerubber Co., Ltd.
Shandong Huasheng Rubber Co., Ltd.
Shandong Yongsheng Rubber Group Co., Ltd.
Shanghai Huayi Group Corporation Limited
Shengtai Tyre Co., Ltd.
Tongli Tyre Co., Ltd.
Triangle Tyre Co., Ltd.
Weifang Shunfuchang Rubber And Plastic Products Co., Ltd.

⁵ On February 28, 2020, Maodi Solar Technology (Dongguan) Co., Ltd. requested an administrative review of the antidumping duty order on certain crystalline silicon photovoltaic products from the People's Republic of China (A-570-010) for the period 2/1/19-1/31/20. However, on April 2, 2020, the company withdrew its request for a review. Accordingly, we are not initiating a review with respect to this company.

⁶ In past reviews, Commerce has treated these companies as a single entity. See, e.g., Certain Frozen Warmwater Shrimp from India: Final Results of Antidumping Duty Administrative Review; 2016-2017, 83 FR 32835 (July 16, 2018) (2016-2017 AR Final). Absent information to the contrary, we intend to continue to treat these companies as a single entity for purposes of this administrative review.

⁷ In past reviews, Commerce has treated these companies as a single entity. See, e.g., 2016-2017 AR Final. Absent information to the contrary, we intend to continue to treat these companies as a single entity for purposes of this administrative review.

⁸ On December 15, 2016, Avanti Frozen Foods Private Limited was found to be the successor-in interest to Avanti Feeds Limited. See Notice of Final Results of Antidumping Duty Changed Circumstances Review: Certain Frozen Warmwater Shrimp from India, 81 FR 90774 (December 15, 2016). Therefore, we have not initiated a separate administrative review with respect to Avanti Feeds Limited.

⁹ In the 2017-2018 administrative review of this order, Commerce determined to treat these companies as a single entity. See Certain Frozen Warmwater Shrimp from India: Final Results of Antidumping Duty Administrative Review; 2017-2018, 84 FR 57847 (October 29, 2019) (2017-2018 AR Final). Absent information to the contrary, we intend to continue to treat these companies as a single entity for purposes of this administrative review.

¹⁰ On October 3, 2018, Coastal Aqua Private Limited was found to be the successor-in-interest to Coastal Aqua. See Certain Frozen Warmwater Shrimp from India: Notice of Final Results of Antidumping Duty Changed Circumstances Review, 83 FR 49909 (October 3, 2018).

¹¹ In past reviews, Commerce has treated these companies as a single entity. See, e.g., 2016-2017 AR Final. Absent information to the contrary, we intend to continue to treat these companies as a single entity for purposes of this administrative review.

¹² In past reviews, Commerce has treated these companies as a single entity. See, e.g., 2016-2017 AR Final. Absent information to the contrary, we intend to continue to treat these companies as a single entity for purposes of this administrative review. Additionally, on December 2, 2014, Premier Marine Products Private Limited was found to be the successor-in-interest to Premier Marine Products. See Notice of Final Results of Antidumping Duty Changed Circumstances Review: Certain Frozen Warmwater Shrimp from India, 79 FR 71384 (December 2, 2014).

¹³ Shrimp produced and exported by Devi Sea Foods Limited (Devi) was excluded from the order effective February 1, 2009. See Certain Frozen Warmwater Shrimp from India: Final Results of the Antidumping Duty Administrative Review, Partial Rescission of Review, and Notice of Revocation of Order in Part, 75 FR 41813, 41814 (July 19, 2010). Accordingly, we are initiating this administrative review with respect to Devi only for shrimp produced in India where Devi acted as either the manufacturer or exporter (but not both).

¹⁴ In past reviews, Commerce has treated these companies as a single entity. See, e.g., 2016-2017 AR Final. Absent information to the contrary, we intend to continue to treat these companies as a single entity for purposes of this administrative review.

¹⁵ In past reviews, Commerce has treated these companies as a single entity. See, e.g., 2016-2017 AR Final. Absent information to the contrary, we intend to continue to treat these companies as a single entity for purposes of this administrative review.

¹⁶ In the 2017-2018 administrative review of this order, Commerce determined to treat these companies as a single entity. See 2017-2018 AR Final. Absent information to the contrary, we intend to continue to treat these companies as a single entity for purposes of this administrative review.

¹⁷ In past reviews, Commerce has treated these companies as a single entity. See, e.g., 2016-2017 AR Final. Absent information to the contrary, we intend to continue to treat these companies as a single entity for purposes of this administrative review.

¹⁸ On August 27, 2010, Srikanth International was found to be the successor-in-interest to NGR Aqua International. See Certain Warmwater Shrimp from India: Final Results of Antidumping Duty Changed Circumstances Review, 75 FR 52718 (August 27, 2010). Therefore, we have not initiated a separate administrative review with respect to NGR Aqua International.

¹⁹ On September 27, 2019, Sunrise Seafoods India Private Limited was found to be the successor-in-interest to Sunrise Aqua Food Exports. See Certain Frozen Warmwater Shrimp from India: Notice of Final Results of Antidumping Duty Changed Circumstances Review, 84 FR 51114 (September 27, 2019). Therefore, we have not initiated a separate administrative review with respect to Sunrise Aqua Food Exports.

²⁰ Where multiple interested parties requested an administrative review of the same companies and requested those company names with identical spelling and punctuation, Commerce listed the name only once to prevent redundancy and administrative burden.

²¹ In past reviews, Commerce has treated these companies as a single entity. See Certain Frozen Warmwater Shrimp from Thailand: Final Results of Antidumping Duty Administrative Review; Final Determination of No Shipments; 2015-2016, 82 FR 30836 (July 3, 2017) (2015-2016 AR Final). Absent information to the contrary, we intend to continue to treat these companies as a single entity for the purpose of this administrative review.

²² In past reviews, Commerce has treated these companies as a single entity. See, e.g., 2015-2016 AR Final. Absent information to the contrary, we intend to continue to treat these companies as a single entity for the purpose of this administrative review.

²³ In past reviews, Commerce has treated these companies as a single entity. See, e.g., Certain Frozen Warmwater Shrimp from Thailand: Final Results and Final Partial Rescission of Antidumping Duty Administrative Review; 2006-2007, 73 FR 50933 (August 29, 2008) (2006-2007 AR Final). Absent information to the contrary, we intend to continue to treat these companies as a single entity for the purpose of this administrative review.

²⁴ Shrimp produced and exported by Marine Gold Products Ltd. (Marine Gold) were excluded from the order effective February 1, 2012. See Certain Frozen Warmwater Shrimp from Thailand: Final Results of Antidumping Duty Administrative Review, Partial Rescission of Review, and Revocation of the Order (in Part); 2011-2012, 78 FR 42497 (July 16, 2013). Accordingly, we are initiating this administrative review with respect to Marine Gold only for shrimp produced in Thailand where Marine Gold acted as either the manufacturer or exporter (but not both).

²⁵ In past reviews, Commerce has treated these companies as a single entity. See, e.g., 2015-2016 AR Final. Absent information to the contrary, we intend to continue to treat these companies as a single entity for the purpose of this administrative review.

²⁶ In past reviews, Commerce has treated these companies as a single entity. Id. Absent information to the contrary, we intend to continue to treat these companies as a single entity for the purpose of this administrative review.

²⁷ In past reviews, Commerce has treated these companies as a single entity. See, e.g., 2006-2007 AR Final. Absent information to the contrary, we intend to continue to treat these companies as a single entity for the purpose of this administrative review.

²⁸ In past reviews, Commerce has treated these companies as a single entity. See, e.g., 2015-2016 AR Final. Absent information to the contrary, we intend to continue to treat these companies as a single entity for the purpose of this administrative review.

²⁹ In past reviews, Commerce has treated these companies as a single entity. Id. Absent information to the contrary, we intend to continue to treat these companies as a single entity for the purpose of this administrative review.

³⁰ This Order was revoked with respect to merchandise exported by Allied Pacific (HK) Co., Ltd., or Allied Pacific Food (Dalian) Co., Ltd., and manufactured by Allied Pacific Aquatic Products (Zhanjiang) Co., Ltd., or Allied Pacific Aquatic Products (Zhongshan) Co., Ltd., or Allied Pacific Food (Dalian) Co., Ltd. See Certain Frozen Warmwater Shrimp from the People's Republic of China and Diamond Sawblades and Parts Thereof from the People's Republic of China: Notice of Implementation of Determinations Under Section 129 of the Uruguay Round Agreements Act and Partial Revocation of the Antidumping Duty Orders, 78 FR 18958, 18959 (March 28, 2013). Accordingly, we are initiating this review for these exporters only with respect to subject merchandise produced by entities other than the aforementioned producers.

³¹ This Order was revoked with respect to merchandise exported by Shantou Red Garden Foodstuff Co., Ltd., and produced by Red Garden Food Processing Co., Ltd., or Chaoyang Jindu Hengchang Aquatic Products Enterprise Co., Ltd., or Raoping County Longfa Seafoods Co., Ltd., or Meizhou Aquatic Products Quick-Frozen Industry Co., Ltd., or Shantou Jinyuan District Mingfeng Quick-Frozen Factory, or Shantou Long Feng Foodstuffs Co., Ltd. See Certain Frozen Warmwater Shrimp from the People's Republic of China and Diamond Sawblades and Parts Thereof from the People's Republic of China: Notice of Implementation of Determinations Under Section 129 of the Uruguay Round Agreements Act and Partial Revocation of the Antidumping Duty Orders, 78 FR 18958, 18959 (March 28, 2013). Accordingly, we are initiating this review for this exporter only with respect to subject merchandise produced by entities other than the aforementioned producers.

³² This Order was revoked with respect to subject merchandise produced and exported by Zhanjiang Guolian Aquatic Products Co., Ltd. See Notice of Amended Final Determination of Sales at Less Than Fair Value and Antidumping Duty Order: Certain Frozen Warmwater Shrimp from the People's Republic of China, 70 FR 5149, 5152 (February 1, 2005). Accordingly, we are initiating this review for this exporter only with respect to subject merchandise produced by another entity.

³³ This Order was revoked with respect to subject merchandise produced and exported by Zhanjiang Regal Integrated Marine Resources Co., Ltd. See Certain Frozen Warmwater Shrimp from the People's Republic of China: Final Results of Administrative Review; 2011-2012, 78 FR 56209, 56210 (September 12, 2013). Accordingly, we are initiating this review for this exporter only with respect to subject merchandise produced by another entity.

³⁴ In the initiation notice that published on March 10, 2020 (85 FR 13860), covering cases with January anniversary dates, Commerce inadvertently omitted the company listed above. Accordingly, Commerce is initiating this administrative review with respect to this company.

³⁵ This initiation includes Tube Investments of India Ltd., and its division, Tube Products of India.

CVD proceedings | Period to be reviewed
CANADA: Certain Softwood Lumber Products 34, C-122-858 | 1/1/19-12/31/19
Carter Forest Products Inc.
INDIA: Certain Cold Drawn Mechanical Tubing of Carbon and Alloy Steel, C-533-874 | 1/1/19-12/31/19
Anand Tubes Pvt., Ltd.
Apl Apollo Steel Tubes
Automotive Steel Pipe
Bhushan Steel Ltd./Tata Steel BSL Limited
Garg Tube Limited
Good Luck Industries
Goodluck India Limited
Hyundai Steel Pipe India Pvt., Ltd.
Innoventive Industries
ISMT Limited
Jindal (India) Ltd.
Jindal Saw Ltd.
Khanna Industrial Pipes Pvt., Ltd.
Pennar Industries, Inc.
Sandvik Asia Pvt., Ltd.
Tube Investments of India Ltd. 35
REPUBLIC OF KOREA: Certain Cut-To-Length Carbon-Quality Steel Plate, C-580-837 | 1/1/19-12/31/19
BDP International
Dongkuk Steel Mill Co., Ltd.
Hyundai Steel Company
Sung Jin Steel Co., Ltd.
THE PEOPLE'S REPUBLIC OF CHINA: Cold-Drawn Mechanical Tubing, C-570-059 | 1/1/19-12/31/19
Anji Pengda Steel Pipe Co., Ltd.
Changshu Fushilai Stecl Steel Pipec Co., Ltd.
Changshu Jingdi Imp. & Exp. Co.
Changshu Special Shaped Steel Tube Co., Ltd.
Hebei Changfeng Steel Tube Mfg.
Hubei Xinyegang Steel Co., Ltd.
Hunan Standard Steel Co., Ltd.
Jiangsu Hongyi Steel Pipe Co., Ltd.
Jiangsu Huacheng Industry Pipe Making Corporation
Jiangsu Liwan Precision Tube Manufacturing Co., Ltd.
Shijiazhuang Teneng Electrical & Mechanical Equipment Co., Ltd.
Suzhou Baojia New Energy Technology Co., Ltd.
Suzhou Foster International Co., Ltd.
Tianjin Xinyue Industrial and Trade Co., Ltd
Wuxi Dajin High-Precision Cold-Drawn Steel Tube Co., Ltd.
Wuxi P&C Machinery Co., Ltd.
Yangzhou Lontrin Steel Tube Co., Ltd.
Zhangjiagang Huacheng Import & Export Co., Ltd.
Zhangjiagang Salem Fine Tubing Co., Ltd.
Zhangjiagang Shengdingyuan Pipe-Making Co., Ltd.
Zhejiang Dingxin Steel Tube Manufacturing Co., Ltd.
Zhejiang Minghe Steel Pipe Co., Ltd.
THE PEOPLE'S REPUBLIC OF CHINA: Common Alloy Aluminum Sheet, C-570-074 | 4/23/18-12/31/19
Alcha International Holdings Limited
Choil Aluminium Co., Ltd.
Companhia Brasileira de Aluminio
Henan Gongdian Thermal Co., Ltd.
Henan Mingtai Al Industrial Co., Ltd.
Jiangsu Alcha Aluminium Co., Ltd.
Luoyang Longding Aluminium Industries Co., Ltd.
Multipanel UK Ltd.
Nanjie Resources Co., Ltd.
PMS Metal Profil Aluminyum San. Ve Tic. A.S. Demirtas Organize Sanayi Bolgesi
Teknik Aluminyum
United Metal Coating LLC
Yinbang Clad Material Co., Ltd.
Yong Jie New Material Co., Ltd.
Zhejiang Yongjie Aluminum Co., Ltd.
Zhejiang Nanjie Industry Co., Ltd
Zheiiang Yongjie Holding Co., Ltd
Zhengzhou Mingtai Industry Co., Ltd.
THE PEOPLE'S REPUBLIC OF CHINA: Crystalline Silicon Photovoltaic Products, C-570-011 | 1/1/19-12/31/19
Maodi Solar Technology (Dongguan) Co., Ltd.
THE PEOPLE'S REPUBLIC OF CHINA: Truck and Bus Tires, C-570-041 | 2/15/19-12/31/19
Aeolus Tyre Co., Ltd.
Chaoyang Long March Tyre Co., Ltd
Doublestar International Trading (Hongkong) Co., Limited
Giti Radial Tire (Anhui) Company
Giti Tire (Fujian) Company Ltd.
Giti Tire Global Trading Pte. Ltd.
Guangrao Kaichi Trading Co., Ltd.
Guizhou Tyre Co., Ltd
Guizhou Tyre Import and Export Co., Ltd
Hefei Wanli Tire Co., Ltd
Hongtyre Group Co.
Jiangsu General Science Technology Co., Ltd.
Koryo International Industrial Limited
Maxon Int'l Co., Limited
Megalith Industrial Group Co., Limited
Prinx Changshan (Shandong) Tire Co., Ltd
Qingdao Awesome International Trade Co., Ltd
Qingdao Doublestar Tire Industrial Co., Ltd.
Qingdao Doublestar Overseas Trading Co., Ltd.
Qingdao Ge Rui Da Rubber Co., Ltd.
Qingdao Fullrun Tyre Corp. Ltd
Qingdao Jinhaoyang International Co., Ltd.
Qingdao Keter International Co, Limited
Qingdao Lakesea Tyre Co., Ltd
Qingdao Powerich Tyre Co., Ltd.
Qingdao Shinego Tire Tech Co., Limited
Qingdao Sunfulcess Tyre Co., Ltd.
Sailun (Shenyang) Tire Co., Ltd.
Sailun Group Co., Ltd.
Sailun Group (Hong Kong) Co., Limited (Previously known as “Sailun Jinyu Group (Hong Kong) Co., Limited”)
Shandong Habilead Rubber Co., Ltd
Shandong Haohua Tire Co., Ltd.
Shandong Huasheng Rubber Co., Ltd
Shandong Hugerubber Co., Ltd.
Shandong Kaixuan Rubber Co., Ltd
Shandong Province Sanli Tire Manufactured Co., Ltd
Shandong Qilun Rubber Co., Ltd
Shandong Transtone Tyre Co., Ltd
Shandong Wanda Boto Tyre Co., Ltd.
Shandong Yongsheng Rubber Group Co., Ltd.
Shanghai Huayi Group Corporation Limited
Shengtai Tyre Co., Ltd.
Sichuan Kalevei Technology Co., Ltd.
Tongli Tyre Co., Ltd.
Triangle Tyre Co., Ltd.
Weifang Shunfuchang Rubber and Plastic Products Co., Ltd.

Suspension Agreements

None.

Duty Absorption Reviews

During any administrative review covering all or part of a period falling between the first and second or third and fourth anniversary of the publication of an AD order under 19 CFR 351.211 or a determination under 19 CFR 351.218(f)(4) to continue an order or suspended investigation (after sunset review), Commerce, if requested by a domestic interested party within 30 days of the date of publication of the notice of initiation of the review, will determine whether AD duties have been absorbed by an exporter or producer subject to the review if the subject merchandise is sold in the United States through an importer that is affiliated with such exporter or producer. The request must include the name(s) of the exporter or producer for which the inquiry is requested.

Gap Period Liquidation

For the first administrative review of any order, there will be no assessment of antidumping or countervailing duties on entries of subject merchandise entered, or withdrawn from warehouse, for consumption during the relevant “gap” period of the order (i.e., the period following the expiry of provisional measures and before definitive measures were put into place), if such a gap period is applicable to the POR.

Administrative Protective Orders and Letters of Appearance

Interested parties must submit applications for disclosure under administrative protective orders in accordance with the procedures outlined in Commerce's regulations at 19 CFR 351.305. Those procedures apply to administrative reviews included in this notice of initiation. Parties wishing to participate in any of these administrative reviews should ensure that they meet the requirements of these procedures (e.g., the filing of separate letters of appearance as discussed at 19 CFR 351.103(d)).

Factual Information Requirements

Commerce's regulations identify five categories of factual information in 19 CFR 351.102(b)(21), which are summarized as follows: (i) Evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). These regulations require any party, when submitting factual information, to specify under which subsection of 19 CFR 351.102(b)(21) the information is being submitted and, if the information is submitted to rebut, clarify, or correct factual information already on the record, to provide an explanation identifying the information already on the record that the factual information seeks to rebut, clarify, or correct. The regulations, at 19 CFR 351.301, also provide specific time limits for such factual submissions based on the type of factual information being submitted. Please review the Final Rule,³⁶ available at https://enforcement.trade.gov/frn/2013/1304frn/2013-08227.txt, prior to submitting factual information in this segment. Note that Commerce has temporarily modified certain of its requirements for serving documents containing business proprietary information, until May 19, 2020, unless extended.³⁷

³⁶ See Certification of Factual Information To Import Administration During Antidumping and Countervailing Duty Proceedings, 78 FR 42678 (July 17, 2013) (Final Rule); see also the frequently asked questions regarding the Final Rule, available at https://enforcement.trade.gov/tlei/notices/factual_info_final_rule_FAQ_07172013.pdf.

³⁷ See Temporary Rule Modifying AD/CVD Service Requirements Due to COVID-19, 85 FR 17006 (March 26, 2020).

Any party submitting factual information in an AD or CVD proceeding must certify to the accuracy and completeness of that information using the formats provided at the end of the Final Rule.³⁸ Commerce intends to reject factual submissions in any proceeding segments if the submitting party does not comply with applicable certification requirements.

³⁸ See section 782(b) of the Act; see also Final Rule; and the frequently asked questions regarding the Final Rule, available at https://enforcement.trade.gov/tlei/notices/factual_info_final_rule_FAQ_07172013.pdf.

Extension of Time Limits Regulation

Parties may request an extension of time limits before a time limit established under Part 351 expires, or as otherwise specified by Commerce.³⁹ In general, an extension request will be considered untimely if it is filed after the time limit established under Part 351 expires. For submissions which are due from multiple parties simultaneously, an extension request will be considered untimely if it is filed after 10:00 a.m. on the due date. Examples include, but are not limited to: (1) Case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning CBP data; and (5) Q&V questionnaires. Under certain circumstances, Commerce may elect to specify a different time limit by which extension requests will be considered untimely for submissions which are due from multiple parties simultaneously. In such a case, Commerce will inform parties in the letter or memorandum setting forth the deadline (including a specified time) by which extension requests must be filed to be considered timely. This policy also requires that an extension request must be made in a separate, stand-alone submission, and clarifies the circumstances under which Commerce will grant untimely-filed requests for the extension of time limits. Please review the Final Rule, available at https://www.gpo.gov/fdsys/pkg/FR-2013-09-20/html/2013-22853.htm, prior to submitting factual information in these segments.

³⁹ See 19 CFR 351.302.

These initiations and this notice are in accordance with section 751(a) of the Act (19 U.S.C. 1675(a)) and 19 CFR 351.221(c)(1)(i).

Dated: April 2, 2020.
James Maeder,
Deputy Assistant Secretary for Antidumping and Countervailing Duty Operations.

[FR Doc. 2020-07377 Filed 4-7-20; 8:45 am]

BILLING CODE 3510-DS-P